POSTAL SERVICE BOARD OF GOVERNORS

Sunshine Act Meeting

Board Votes To Close September 22, 2000, Special Meeting

By recorded vote on September 20, 2000, a majority of the Board of Governors of the United States Postal Service voted to hold a special meeting by telephone conference call and close it to public observation on September 22, 2000.

MATTERS TO BE CONSIDERED: 1. Priority Mail Processing Center Contract.

Persons Expected to Attend: Governors Ballard, Daniels, del Junco, Dyhrkopp, Fineman, and Walsh; Postmaster General Henderson, Deputy Postmaster General Nolan, Secretary of the Board Hunter, and General Counsel Gibbons.

General Counsel Certification: The General Counsel of the United States Postal Service has certified that the meeting may be closed under the Government in the Sunshine Act.

CONTACT PERSON FOR MORE INFORMATION: Requests for information about the special meeting should be addressed to the Secretary of the Board, David G. Hunter, at (202) 268-4800.

David G. Hunter,
Secretary.

[FR Doc. 00-24856 Filed 9-22-00; 3:46 pm]

BILLING CODE 7710-12-M